DEPARTMENT OF HOMELAND SECURITY

Coast Guard

33 CFR Part 117

[Docket No. USCG-2024-0407]

Drawbridge Operation Regulation; Manitowoc River, Manitowoc, WI

AGENCY: Coast Guard, DHS.

ACTION: Temporary Interim Rule; request for comments.

SUMMARY: The Coast Guard is issuing a temporary interim rule from the operating schedule that governs the Eighth Street Bridge, mile 0.29 and the Tenth Street Bridge, mile 0.43, over the Manitowoc River, in the town of Manitowoc, Wisconsin. The City of Manitowoc has requested a full review of the current bridge regulations to alleviate vehicle congestion in downtown Manitowoc. The Coast Guard is seeking comments from the public regarding this deviation and specifically on whether we should make this drawbridge operation schedule permanent.

DATES: Effective May 22, 2025, 33 CFR 117.1089(a) is stayed until November 30, 2025. The revision of 33 CFR 117.1089(b) in this rule is also effective from May 22, 2025, until November 30, 2025.

Comments and related material must reach the Coast Guard on or before July 31, 2025.

ADDRESSES: You may submit comments and view documents mentioned in this preamble as being available in the docket, go to https://www.regulations.gov. Type the docket number (USCG-2024-0407) in the “SEARCH” box and click “SEARCH”. In the Document Type column, select “Supporting & Related Material.”

FOR FURTHER INFORMATION CONTACT: If you have questions on this test deviation, call or email Mr. Lee D. Soule, Bridge Management Specialist, Ninth Coast Guard District; telephone 216-902-6085, email Lee.D.Soule@uscg.mil.

SUPPLEMENTARY INFORMATION:

I. Table of Abbreviations

CFR Code of Federal Regulations

DHS Department of Homeland Security

FR Federal Register

IGLD85 International Great Lakes Datum of 1985

LWD Low Water Datum based on IGLD85

NPRM Notice of proposed rulemaking

Pub. L. Public Law

SNPRM Supplemental notice of proposed rulemaking

S.S. Steam Powered Ship

§ Section

U.S.C. United States Code

WISDOT Wisconsin Department of Transportation

II. Background Information and Regulatory History

The Manitowoc River is 35.8 miles long and flows into Lake Michigan at the town of Manitowoc, Wisconsin. Large commercial vessels, along with powered and unpowered recreational vessels, use the navigable portion of the river that extends from the mouth of the river to the head of navigation at mile 2.33. There are two movable bridges over the river.

The Eighth Street Bridge, mile 0.29 is a double leaf bascule bridge that provides a horizontal clearance of 120 feet and a vertical clearance of 12 feet above LWD in the closed position and an unlimited clearance in the open position.

The Tenth Street Bridge, mile 0.43, is a double leaf bascule bridge that provides a horizontal clearance of 120 feet and a vertical clearance of 14 feet above LWD in the closed position and an unlimited clearance in the open position.

Both bridges over the Manitowoc River have operated under a special regulation (33 CFR 117.1089) since 1920, with the last modernization to the regulation occurring in 1955. Since the last review, there have been several important changes to commerce on the river. Specifically, the Wisconsin Central Railroad Bascule Bridge and the Wisconsin Central Railroad Swing Bridge that previously crossed the river have been removed in their entirety. Additionally, the three ferries operated by railroad companies have stopped servicing Manitowoc, Wisconsin.

The Coast Guard is issuing this temporary interim rule without prior notice and opportunity to comment pursuant to authority under 5 U.S.C. 553(b). This provision authorizes an agency to issue a rule without prior notice and opportunity to comment when the agency for good cause finds that those procedures are “impracticable, unnecessary, or contrary to the public interest.” Under 5 U.S.C. 553(b), the Coast Guard finds that good cause exists for not publishing a notice of proposed rulemaking with respect to this rule because it is contrary to the public interest to delay the issuance of the rule and the beneficial impacts it provides to the local community and users of the waterway. The bridge is currently only required to remain closed to navigation for short 10-minute periods during commuting hours causing high vehicle congestion. This temporary operating schedule adjusts the designated drawbridge opening times to assist with vehicle congestion. We lack sufficient time to issue a proposed rule and consider comments prior to needing to begin the temporary deviation to the operating schedule.

Also, under 5 U.S.C. 553(d)(3), the Coast Guard finds that good cause exists for making this rule effective less than 30 days after publication in the Federal Register. Delaying the effective date of this rule would be impracticable because action is needed to respond to change in drawbridge schedule starting on May 22, 2025. The Coast Guard is soliciting comments on this temporary interim rule. If the Coast Guard determines that changes to the temporary interim rule are necessary, we will publish a temporary final rule or other appropriate document. If the Coast Guard determines that no changes are necessary to the schedule provided in this rule, we may finalize the operating schedule as permanent upon completion of the approved deviation.

III. Legal Authority and Need for Rule

The Coast Guard is issuing this rule under authority in 33 U.S.C. 499.

Public concern that vehicles unloaded from the ferry, the S.S. Badger, brought to downtown Manitowoc from Ludington, Michigan were causing vehicle traffic congestion at the Eighth Street Bridge, mile 0.29 and the Tenth Street Bridge, mile 0.43, prompted the City of Manitowoc, Wisconsin, to request special bridge hours when the S.S. Badger unloads vehicles. After a formal inquiry into the operations of the S.S. Badger, it was determined that their slow loading and offloading process did not cause vehicle congestion to downtown Manitowoc.

Thus, to improve the flow of vehicles across the city, WisDOT, in cooperation with the City of Manitowoc, completed studies to make roadway improvements. The studies indicated that a combined 20,600 vehicles cross over the Eighth Street Bridge, mile 0.29 and the Tenth Street Bridge, mile 0.43, daily. Proposed solutions to traffic congestion include instituting one-way traffic on each bridge to facilitate efficient traffic flows. To further ease vehicle congestion, the state of Wisconsin has designed a roundabout to the north and south of the bridges to alleviate vehicles sitting at traffic lights or stop signs. This will help create a better flow of vehicles rather than several small surges of vehicles trying to cross the bridges.

In order to try to minimize traffic congestion in downtown Manitowoc and to meet the reasonable needs of navigation, the Coast Guard will be authorizing a TIR for the Eighth Street Bridge, mile 0.29 and the Tenth Street Bridge, mile 0.43, to allow the public to test the proposed regulation and comment on its effectiveness.

After reviewing drawtender logs for each of the two bridges, we discovered each bridge opens over 500 times annually, and most openings occur between May and October of each year. Of the total openings, approximately 237 openings were done to accommodate recreational vessels, and 263 openings were done to accommodate commercial vessels. This data provides a roughly equal balance of openings between the primary vessel types (recreational and commercial).

Currently, the regulations provide that, from April 1 through October 31, the bridges provide two 10-minute periods (6:50 a.m. to 7 a.m., and 7:50 a.m. to 8 a.m.) and two 15-minute periods (11:55 a.m. to 12:10 p.m., and 12:45 p.m. to 1 p.m.) each day, during which the bridge need not open, to alleviate vehicle congestion at the bridges. The regulations also include a 6-hour advance notice required for openings during a 6-hour period between 10:30 p.m. to 4:30 a.m. The current regulation was drafted by the railroads and approved by the United States Department of War one hundred and four years ago. The regulation was groundbreaking when it was first conceived, but by modern standards, operations of the bridge are cumbersome, as the existing regulation does not account for the increase in population. It is also outdated by the loss of the original railroads. Four short periods to allow vehicles to cross the bridges is an antiquated process that does not meet the current need of land transportation. We reviewed the hourly vehicular traffic logs from the city and discovered each bridge handles over 10,500 cars daily with three hours that peak for vehicle crossings. The three periods are in the morning while people are traveling to work, mid-day when people are traveling for lunch, and evening when people tend to leave work for home. The vehicle counts provided by the city show 1610 vehicles on average cross the bridges in the morning rush hour from 7 a.m. to 8 a.m., 2370 vehicles cross the bridge a from 11 a.m. to noon, and 2855 vehicles cross the bridges from 4 p.m. to 5 p.m. These three rush-hours combined for both bridges would facilitate 6835 vehicles throughout downtown.

IV. Discussion of the Rule

Under the new regulation, the times the bridges remain closed to alleviate motor vehicle traffic congestion will be scheduled for three separate hour-long periods during the morning (7 a.m. to 8 a.m.), midday (11 a.m. to noon), and evening (4 p.m. to 5 p.m.) rush-hours when traffic is the busiest. If the bridges remain open during these times, based on the rush hour traffic patterns, the roads will become more congested, making it difficult for vehicles to travel efficiently. As more drivers learn of these mandated periods where the bridge is not required to open, we speculate more drivers will adjust their schedules to cross the bridges during these times.

Furthermore, the old regulation requires special sound signals to request openings for each bridge. This is an antiquated system long overtaken by the utility and popularity of VHF-FM Marine Radios and cellular telephones (utilized in most vessel calls to the bridges when requesting openings). By removing these specialized series of horn blasts in the new regulation, we will simplify the process and make the rule easier to understand and remember.

Weekend and holiday tourism patterns diverge heavily from weekday patterns. As a result, on weekends and holidays, the bridges will open on signal during the day, but not during the evenings. This change will avoid impeding trade or travel levels typically associated with these traditional non-working days.

The current regulation allows for a deviation for six hours in the evening from the general requirement in 33 CFR 117.7(a) to man the drawbridge with drawtenders (10:30 p.m. to 4:30 a.m.) and requires mariners to provide six hours advance notice when requesting bridge openings. The current regulation is generally unaccommodating to mariners and creates a potential safety risk to mariners seeking safe harbor from storms. It requires a 6-hour notice for an opening, but the closure itself is 6-hours in duration. As a result, ships traveling to Manitowoc or leaving port who are running a little late from loading or unloading cargo may need to wait until morning for the bridge to open. To better accommodate vessels which may require an opening, we are adjusting the evening and morning hours by 30 minutes (10 p.m. to 4 a.m.) and are also reducing the advance notice to 2 hours, instead of 6 hours, based on times when vessels seldom request openings.

The current regulation lists winter hours starting on November 1 and ending on March 31. Drawtender logs show the bridges open an average of 75 times during the month of November. Moving the winter hours to begin on December 1 would relieve the mariners from the burden of the advance notice requirements in November and would allow the city to have a drawtender on duty during the busy November months, without recalling personnel to operate the bridges. Therefore, the new regulation includes a provision changing the beginning of the winter hours to December 1.

We are considering making this temporary interim rule's regulation for the drawbridge operation permanent and request public comment on that path.

On April 30, 2024, we emailed a draft copy of the proposed temporary rule to the City of Manitowoc, Lake Carriers Association, Rand Logistics Incorporated, and Chamber of Marine Commerce for initial comments prior to publishing the test deviation on www.regulations.gov. We did not receive any negative comments, but we did receive one supporting comment by phone from a commercial mariner.

We view public participation as essential to effective rulemaking and will consider all comments and material received during the comment period. Your comment can help shape the outcome of this rulemaking. If you submit a comment, please include the docket number for this rulemaking, indicate the specific section of this document to which each comment applies, and provide a reason for each suggestion or recommendation. Your comments will help us determine if this operating schedule should become the new permanent operating schedule.

We encourage you to submit comments through the Federal Decision-Making Portal at https://www.regulations.gov. To do so, go to https://www.regulations.gov, type USCG-2024-0407 in the search box and click “Search.” Next, look for this document in the Search Results column, and click on it. Then click on the Comment option. If your material cannot be submitted using https://www.regulations.gov, contact the person in the FOR FURTHER INFORMATION CONTACT section of this document for alternate instructions.

V. Regulatory Analyses

We developed this rule after considering numerous statutes and Executive Orders related to rulemaking. Below we summarize our analyses based on a number of these statutes and Executive Orders.

A. Regulatory Planning and Review

Executive Orders 12866 and 13563 direct agencies to assess the costs and benefits of available regulatory alternatives and, if regulation is necessary, to select regulatory approaches that maximize net benefits. This rule has not been designated a “significant regulatory action,” under section 3(f) of Executive Order 12866. Accordingly, it has not been reviewed by the Office of Management and Budget (OMB).

This regulatory action determination is based on the ability that vessels can still transit the bridge given advanced notice.

B. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000.

While some owners or operators of vessels intending to transit the bridge may be small entities, for the reasons stated in section V.A above, this rule will not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule calls for no new collection of information under the Paperwork Reduction Act of 1995 (44 U.S.C. 3501-3520).

D. Federalism and Indian Tribal Government

A rule has implications for federalism under Executive Order 13132, Federalism, if it has a substantial direct effect on the States, on the relationship between the national government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Management Directive 023-01, Rev. 1, associated implementing instructions, and Environmental Planning Policy COMDTINST 5090.1 (series) which guide the Coast Guard in complying with the National Environmental Policy Act of 1969 (NEPA) (42 U.S.C. 4321-4370f). The Coast Guard has determined that this action is one of a category of actions that do not individually or cumulatively have a significant effect on the human environment. This rule promulgates the operating regulations or procedures for drawbridges and is categorically excluded from further review, under paragraph L49, of Department of Homeland Security Management Directive 023-01, Rev. 1, Table 1 and Chapter 3, Table 3-1 of the U.S. Coast Guard Environmental Planning Implementation Procedures.

Neither a Record of Environmental Consideration nor a Memorandum for the Record are required for this rule.

List of Subjects in 33 CFR Part 117

Bridges.

For the reasons discussed in the preamble, the Coast Guard amends 33 CFR part 117 as follows:

PART 117—DRAWBRIDGE OPERATION REGULATIONS

1. The authority citation for part 117 continues to read as follows:

Authority: 33 U.S.C. 499; 33 CFR 1.05-1; Department of Homeland Security Delegation No. 0170.1. Revision No. 01.3

2. Amend § 117.1089 by staying paragraph (a) and revising paragraph (b) to read as follows:

§ 117.1089 Manitowoc River

* * * * *

(b) The draws of the Eighth Street Bridge, mile 0.29 and the Tenth Street Bridge, mile 0.43, over the Manitowoc River at Manitowoc, shall open on signal except that:

(1) From April 1 through November 30, Monday through Friday, the bridges need not open from 7 a.m. to 8 a.m., and 11 a.m. to 12 p.m., and again from 4 p.m. to 5 p.m., except federal holidays. From 10 p.m. to 4 a.m., the bridges will open on signal if provided a 2-hour advance notice of arrival.

(2) From December 1 through March 31 the draws shall open on signal if at least a 12-hour advance notice is given.

Dated: May 15, 2025.
Jonathan Hickey,
Rear Admiral, U.S. Coast Guard, Commander, Ninth Coast Guard District.

[FR Doc. 2025-09136 Filed 5-20-25; 8:45 am]

BILLING CODE P